DEPARTMENT OF AGRICULTURE

Forest Service

Wallowa-Whitman National Forest, Oregon; Wallowa-Whitman National Forest Travel Management Plan

AGENCY: Forest Service, USDA.

ACTION: Revised notice of intent to prepare an environmental impact statement.

SUMMARY: On May 3, 2007, the USDA, Forest Service, Wallowa-Whitman National Forest, published a Notice of Intent in Federal Register (72 FR 24558) to prepare an environmental impact statement (EIS) for the Forest Travel Management Plan. The Notice of Intent is being revised to change the end of the scoping period for receiving comments on the proposed action. The end of the scoping period was originally June 30, 2007. The revised end of the scoping period is August 17, 2007.

DATES: Written comments concerning the proposed action should be submitted by August 17, 2007.

FOR FURTHER INFORMATION CONTACT: Jeff Stein, Interdisciplinary Team Leader, Wallowa-Whitman National Forest, Wallowa Mountains Office, 88401 Hwy. 82, Box A, Enterprise, OR, phone: (541) 426-5656.

Dated: May 25, 2007
Steven A. Ellis,
Wallowa-Whitman National Forest Supervisor.

[FR Doc. 07-2721 Filed 5-31-07; 8:45 am]

BILLING CODE 3410-11-M